DEPARTMENT OF COMMERCE

National Oceanic and Atmospheric Administration

Proposed Information Collection; Comment Request; West Coast Region U.S. Pacific Highly Migratory Species Hook and Line Logbook

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 26, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Shannon Penna, National Marine Fisheries Service (NMFS), West Coast Region (WCR) Long Beach Office, 501 West Ocean Blvd., Suite 4200, Long Beach, CA 90802, (562) 980-4238 or shannon.penna@noaa.gov.

SUPPLEMENTARY INFORMATION:

I. Abstract

This request is for extension of a currently approved collection.

Under the Fishery Management Plan for United States (U.S.) West Coast Fisheries for Highly Migratory Species (HMS FMP) U.S. fishermen, participating in the Pacific Hook and Line fishery (also known as the albacore troll and pole-and-line fishery), are required to obtain a Highly Migratory Species (HMS) permit. Permit holders are required to complete and submit logbooks documenting their daily fishing activities, including catch and effort for each fishing trip. Logbook forms must be completed within 24 hours of the completion of each fishing day and submitted to the Southwest Fisheries Science Center (SWFSC) within 30 days of the end of each trip. These data and associated analyses help the SWFSC provide fisheries information to researchers and the needed management advice to the U.S. in its negotiations with foreign fishing nations exploiting HMS.

II. Method of Collection

Respondents have a choice of either electronic data submission or paper forms. Methods of submittal include secure electronic transmission, and mailing of paper forms.

III. Data

OMB Control Number: 0648-0223.

Form Number(s): NOAA Form 88-197.

Type of Review: Regular submission (extension of a currently approved collection).

Affected Public: Business or other for-profit.

Estimated Number of Respondents: 1,700.

Estimated Time per Response: 1 hour.

Estimated Total Annual Burden Hours: 6,800.

Estimated Total Annual Cost to Public: $3,332 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 19, 2017.
Sarah Brabson,
NOAA PRA Clearance Officer.

[FR Doc. 2017-23055 Filed 10-23-17; 8:45 am]

BILLING CODE 3510-22-P